DEPARTMENT OF COMMERCE

National Oceanic and Atmospheric Administration

50 CFR Part 217

[Docket No. 160405311-6664-01]

RIN 0648-BF95

Taking and Importing Marine Mammals; Taking Marine Mammals Incidental to Rehabilitation of the Jetty System at the Mouth of the Columbia River: Jetty A, North Jetty, and South Jetty, in Washington and Oregon; Correction

AGENCY: National Marine Fisheries Service (NMFS), National Oceanic and Atmospheric Administration (NOAA), Commerce.

ACTION: Proposed rule; correction; extension of public comment period.

SUMMARY: This document corrects a typographical error in the ADDRESSES section to a proposed rule published on August 25, 2016.

DATES: Comments on the proposed rule must be submitted no later than October 6, 2016.

ADDRESSES: You may submit comments on this document identified by NOAA-NMFS-2016-0108, by any of the following methods:

• Electronic Submissions: Submit all electronic public comments via the Federal e-Rulemaking Portal. Go to www.regulations.gov, enter NOAA-NMFS-2016-0108 in the “Search” box, click the “Comment Now!” icon, complete the required fields, and enter or attach your comments.

• Mail: Submit written comments to Jolie Harrison, Chief, Permits and Conservation Division, Office of Protected Resources, National Marine Fisheries Service, 1315 East-West Highway, Silver Spring, MD 20910.

Instructions: Comments must be submitted by one of the above methods to ensure that the comments are received, documented, and considered by NMFS. Comments sent by any other method, to any other address or individual, or received after the end of the comment period, may not be considered. All comments received are a part of the public record and will generally be posted for public viewing on www.regulations.gov without change. All personal identifying information (e.g., name, address, etc.) submitted voluntarily by the sender will be publicly accessible. Do not submit confidential business information, or otherwise sensitive or protected information. NMFS will accept anonymous comments (enter “N/A” in the required fields if you wish to remain anonymous).

FOR FURTHER INFORMATION CONTACT: Rob Pauline, NMFS, (301) 427-8408, robert.pauline@noaa.gov.

SUPPLEMENTARY INFORMATION:

Need for Correction

In the ADDRESSES section of a proposed rule (81 FR 58443; August 25, 2016) on page 58443, in the first column, NMFS used an incorrect document identifier number “NOAA-NMFS-2014-0144” rather than the correct document identifier of “NOAA-NMFS-2016-0108” in the Federal e-Rulemaking Portal hyperlink. The ADDRESSES section has been corrected in this document.

Authority: 16 U.S.C. 1801 et seq.

Dated: August 30, 2016.
Samuel D. Rauch III,
Deputy Assistant Administrator for Regulatory Programs, National Marine Fisheries Service.

[FR Doc. 2016-21275 Filed 9-2-16; 8:45 am]

BILLING CODE 3510-22-P